FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 962. Interested parties may submit comments on an agreement to the Secretary, Federal Maritime Commission, Washington, DC 20573, within 10 days of the date this notice appears in the Federal Register.

Agreement No.: 217-011700

Title: DSEN/CSAV Slot Charter Agreement.

Parties:

DSR-Senator Lines GmbH (“DSEN”)

Compania Sud Americana de Vapores S.A. (“CSAV”)

Synopsis: The proposed agreement authorizes CSAV to charter container slots from DSEN in the trade between United States East Coast ports and points, and ports and points in North Europe.

Agreement No.: 201101.

Title: Tampa—Tampa Bay Marine Terminal Wharfage Incentive Agreement.

Parties:

Tampa Port Authority

Tampa Bay International Terminals, Inc.

Synopsis: The proposed agreement provides for a wharfage incentive. The agreement runs through March 31, 2001.

By Order of the Federal Maritime Commission.

Dated: April 7, 2000.
Bryant L. VanBrakle,
Secretary.

[FR Doc. 00-9100 Filed 4-11-00; 8:45 am]

BILLING CODE 6730-01-P